DEPARTMENT OF HOMELAND SECURITY

Federal Emergency Management Agency

[Docket ID: FEMA-2022-0050; OMB No. 1660-0005]

Agency Information Collection Activities: Proposed Collection; Comment Request; FEMA Inspection and Claims Forms

AGENCY: Federal Emergency Management Agency, Department of Homeland Security.

ACTION: 60-Day notice of revision and request for comments.

SUMMARY: The Federal Emergency Management Agency (FEMA), as part of its continuing effort to reduce paperwork and respondent burden, invites the general public to take this opportunity to comment on an extension, with change, of a previously approved information collection. In accordance with the Paperwork Reduction Act of 1995, this notice seeks comments concerning the collection of information related to the flood insurance claims process and the housing inspection damage assessment process.

DATES: Comments must be submitted on or before February 6, 2023.

ADDRESSES: To avoid duplicate submissions to the docket, please submit comments at www.regulations.gov under Docket ID FEMA-2022-0050. Follow the instructions for submitting comments.

All submissions received must include the agency name and Docket ID. Regardless of the method used for submitting comments or material, all submissions will be posted, without change, to the Federal eRulemaking Portal at https://www.regulations.gov, and will include any personal information you provide. Therefore, submitting this information makes it public. You may wish to read the Privacy and Security Notice that is available via a link on the homepage of www.regulations.gov.

FOR FURTHER INFORMATION CONTACT: Pertaining to claims forms, contact: Daniel Claire, Insurance Examiner, FEMA Resilience, (202) 552-9891 or Daniel.Claire@fema.dhs.gov. Pertaining to housing inspection instruments, contact: Todd Milliron, Supervisory Program Specialist, FEMA Office of Response and Recovery, (540) 686-3844 or Todd.Milliron@fema.dhs.gov. You may contact the Information Management Division for copies of the proposed collection of information at email address: FEMA-Information-Collections-Management@fema.dhs.gov.

SUPPLEMENTARY INFORMATION: Pertaining to National Flood Insurance Program (NFIP) Direct claim forms, Congress created the NFIP through the National Flood Insurance Act of 1968 (NFIA) (Title XIII of Public Law 90-448, 82 Stat. 476), codified at 42 U.S.C. 4001 et seq. The NFIP enables property owners in participating communities to purchase flood insurance. Communities participate in the NFIP based on an agreement between the community and Federal Emergency Management Agency (FEMA). If a community adopts and enforces a floodplain management ordinance to reduce future flood risk to new construction in floodplains, FEMA make flood insurance available within the community as a financial protection against flood losses. Accordingly, the NFIP is comprised of three key activities: flood insurance, floodplain management, and flood hazard mapping.

A prospective policyholder may purchase an NFIP flood insurance policy, known as a Standard Flood Insurance Policy (SFIP), either: (1) directly from the Federal Government through a direct servicing agent (referred to as “NFIP Direct”), or (2) from a participating private insurance company through the Write Your Own (WYO) Program. See 44 CFR 62.23-24. The SFIP is a single-peril (flood) policy that pays for direct physical damage to insured property. There are three policy forms (i.e., insurance contracts) of the SFIP: (1) Dwelling Form, (2) General Property Form, and (3) Residential Condominium Building Association Policy (RCBAP) Form, which are published in FEMA's regulations. See 44 CFR 61.13; see also 44 CFR part 61, Appendices A(1), A(2), and A(3). The SFIP sets out the terms and conditions of insurance. FEMA establishes terms, rate structures, and premium costs of the SFIP. The terms, coverage limits, and flood insurance premiums are the same whether purchased from the NFIP Direct or the WYO Program. See 44 CFR 62.23(c), (h).

All flood loss claims presented under the NFIP are paid directly with U.S. Treasury funds, regardless of whether the policy is issued by the NFIP Direct or by a WYO company. The information in the NFIP Direct collection includes all the data necessary to adjudicate claims for damages and provide SFIP benefits resulting from flood losses.

In addition to the requirements of the NFIA, section 205 of the Bunning-Bereuter-Blumenauer Flood Insurance Reform Act of 2004 (42 U.S.C. 4011 note) required FEMA to establish a claims appeals process. See 44 CFR 62.20.

Pertaining to housing inspections, also part of this collection, the Robert T. Stafford Disaster Relief and Emergency Assistance Act (Stafford Act), Public Law 93-288, as amended, is the legal basis for FEMA to provide financial assistance and services to individuals applying for disaster assistance benefits in the event of a Federally declared disaster. Regulations in 44 CFR 206.110—Federal Assistance to Individuals and Households implement the policy and procedures set forth in Section 408 of the Stafford Act, 42 U.S.C. 5174, as amended.

This program provides financial assistance and, if necessary, direct assistance to eligible individuals and households who, as a direct result of a major disaster or emergency, have uninsured or under-insured expenses, and serious needs, and are unable to meet such expenses or needs through other means.

Individuals and households applying for assistance must provide information detailing their losses and needs through the disaster assistance registration process covered under collection 1660-0002, Disaster Assistance Registration. If FEMA determines the applicant had home or personal property damage, has no insurance, or that the applicant's insurance coverage may not meet their needs, an inspection is needed to verify disaster caused damage.

All pertinent information for a specific applicant is stored under a unique registration identification (ID) within the National Emergency Management Information System (NEMIS). An inspection request occurs due to NEMIS-driven business rules (automatically), applicant request, or a FEMA caseworker request. The scope of an inspection for owners includes noting real and personal property (furnishing and appliances) damages to the interior and exterior of the dwelling, addressing special needs, transportation, unmet needs, and miscellaneous purchases. Inspectors do not note real property specifications for renters.

Once the inspector validates the information provided by the applicant during registration intake, the inspector begins an assessment of real and/or personal property damages utilizing Automated Construction Estimator (ACE) software. The same ACE software screens are used regardless of how the inspection occurs (i.e., via onsite, via voice over the phone, or via video). The inspector then uploads this information back to FEMA via the NEMIS through use of a secure connection. The inspector only records observed disaster caused damages and does not determine eligibility or damage award levels. FEMA's policies and business rules determine eligibility and award levels based upon the damage assessment, and other available information.

For this submission, FEMA identified two NFIP Direct claim forms in which necessary data could be combined or collected in other forms or systems, thereby eliminating the need for those forms, and reducing duplicative information collection. Accordingly, FEMA proposes to remove the following two forms from this collection: (1) FEMA Form FF-206-FY-21-113, Advance Payment Request—Building & Contents, and (2) FEMA Form FF-206-FY-21-114, Advance Payment Request—Increased Cost of Compliance (ICC).

Collection of Information

Title: FEMA Inspection and NFIP Direct Claims Forms.

Type of Information Collection: Extension, with change, of a currently approved information collection.

OMB Number: 1660-0005.

FEMA Forms: FEMA Form FF-206-FY-21-106, Personal Property (Contents) Worksheet; FEMA Form FF-206-FY-21-107, Building Property Worksheet; FEMA Form FF-206-FY-21-108, Proof of Loss—Building & Contents (Policyholder-Prepared); FEMA Form FF-206-FY-21-109, Proof of Loss—Increased Cost of Compliance (ICC); FEMA Form FF-206-FY-21-110, First Notice of Loss; FEMA Form FF-206-FY-21-111, Manufactured (Mobile) Home/Travel Trailer Worksheet; FEMA Form FF-206-FY-21-112, Proof of Loss—Building & Contents (Adjuster-Prepared); FEMA Form FF-206-FY-21-115, Claim Appeal; FEMA Form FF-104-FY-22-220, Onsite Housing Inspections; FEMA Form FF-104-FY-22-221, Remote Voice Telephony Housing Inspections; and FEMA Form FF-104-FY-22-222, Remote Video Telephony Housing Inspections.

Abstract: After a flood loss, claims forms are used by NFIP Direct policyholders to provide information needed to investigate, document, evaluate, and adjudicate claims against FEMA policies for flood damage to insured property or determine eligibility and settlement for benefits under Coverage D, Increased Cost of Compliance coverage. After a federally-declared disaster, FEMA inspectors use household inspection instruments to verify applicant information and document damage to determine award eligibility.

Affected Public: Individuals or households, businesses or other for-profit, not-for-profit institutions, and state, local or tribal governments.

Estimated Number of Respondents: 302,360.

Estimated Number of Responses: 302,360.

Estimated Total Annual Burden Hours: 309,621.

Estimated Total Annual Respondent Cost: $12,573,707.

Estimated Respondents' Operation and Maintenance Costs: $0.00.

Estimated Respondents' Capital and Start-Up Costs: $0.00.

Estimated Total Annual Cost to the Federal Government: $103,103,676.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-26614 Filed 12-7-22; 8:45 am]

BILLING CODE 9111-52-P